DEPARTMENT OF ENERGY

Federal Energy Regulatory Commission

[Docket No. RP01-167-000]

Dominion Transmission, Inc.; Notice of Proposed Changes in FERC Gas Tariff

December 6, 2000.

Take notice that on December 1, 2000, Dominion Transmission, Inc. (DTI) tendered for filing as part of its FERC Gas Tariff, Third Revised Volume No. 1, the following tariff sheets, with an effective date of January 1, 2001:

First Revised Sheet No. 1076

First Revised Sheet No. 1097

First Revised Sheet No. 2303

First Revised Sheet No. 2304

First Revised Sheet No. 2504

DTI states that the purpose of the filing is to implement revised Appalachian Aggregation Points under the General Terms and Conditions of DTI's Tariff contained in Section 11. E. and related tariff sheets. The current five Appalachian Aggregation Points will be reduced to the following two: Appalachian Pooling North Point (receipts north of Valley Gate in Pennsylvania) and Appalachian Pooling South Point (receipts south of Valley Gate in Pennsylvania including all receipts in West Virginia).

DTI states that the proposed changes will be beneficial to both the Appalachian Pooling customers as well as to DTI's administration of the Appalachian Pools. Other tariff sheets changes are necessary to change the names of the Appalachian Aggregation Points to conform to the new names of the two points.

DTI states that copies of its filing have been served upon DTI's customers and interested state commissions.

Any person desiring to be heard or to protest said filing should file a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at ­http://www.ferc.fed.us/efi/doorbell.htm.

David P. Boergers,
Secretary.

[FR Doc. 00-31563 Filed 12-11-00; 8:45 am]

BILLING CODE 6717-01-M